OFFICE OF PERSONNEL MANAGEMENT

Excepted Service

AGENCY: Office of Personnel Management (OPM).

ACTION: Notice.

SUMMARY: This notice identifies Schedule A, B, and C appointing authorities applicable to a single agency that were established or revoked from January 1, 2021 to January 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule B Authorities to report during January 2021.

Schedule B

No Schedule B Authorities to report during January 2021.

Schedule C

The following Schedule C appointing authorities were approved during January 2021.

Agency name | Organization name | Position title | Authorization No. | Effective date
DEPARTMENT OF AGRICULTURE | Food and Nutrition Service | Senior Advisor | DA210061 | 01/20/2021
| Office of Communications | Director of Scheduling and Advance | DA210059 | 01/20/2021
|  | Confidential Assistant | DA210060 | 01/20/2021
|  | Scheduler | DA210063 | 01/20/2021
|  | Deputy Director of Communications | DA210071 | 01/29/2021
| Office of the Assistant Secretary for Congressional Relations | Confidential Assistant (2) | DA210047 DA210048 | 01/20/2021 01/20/2021
|  | Legislative Director | DA210064 | 01/20/2021
| Office of the Secretary | Senior Advisor | DA210056 | 01/20/2021
|  | White House Liaison | DA210041 | 01/20/2021
|  | Senior Advisor for COVID | DA210057 | 01/20/2021
|  | Deputy White House Liaison | DA210065 | 01/20/2021
| Office of the Under Secretary for Farm Production and Conservation | Confidential Assistant Senior Advisor | DA210046 DA210055 | 01/20/2021 01/20/2021
| Office of the Under Secretary for Rural Development | Senior Advisor | DA210058 | 01/20/2021
| Rural Business Service | Chief of Staff (2) | DA210062 DA210067 | 01/20/2021 01/20/2021
DEPARTMENT OF COMMERCE | Bureau of Industry and Security | Senior Advisor | DC210040 | 01/20/2021
|  | Congressional Affairs Specialist | DC210066 | 01/20/2021
|  | Chief of Staff | DC210070 | 01/26/2021
| Bureau of the Census | Chief of Congressional Affairs | DC210061 | 01/20/2021
| Office of Economic Development Administration | Director of Public Affairs | DC210045 | 01/20/2021
| National Oceanic and Atmospheric Administration | Special Assistant | DC210047 | 01/20/2021
| Office of Legislative and Intergovernmental Affairs | Confidential Assistant Director for Oversight | DC210048 DC210057 | 01/20/2021 01/26/2021
|  | Director of Legislative and Intergovernmental Affairs | DC210067 | 01/26/2021
| Office of Policy and Strategic Planning | Policy Advisor | DC210049 | 01/20/2021
| Office of Public Affairs | Deputy Director of Public Affairs and Director of Digital Strategy and Engagement | DC210069 | 01/26/2021
|  | Deputy Director of Public Affairs and Press Secretary | DC210051 | 01/20/2021
|  | Director of the Office of Public Affairs | DC210065 | 01/20/2021
|  | Press Assistant | DC210050 | 01/20/2021
| Office of the Deputy Secretary | Advisor | DC200153 | 01/08/2021
| Office of the Director | Senior Advisor | DC210063 | 01/20/2021
| Office of the General Counsel | Special Assistant | DC210052 | 01/20/2021
| Office of the Under Secretary | Special Assistant | DC210046 | 01/20/2021
|  | Senior Advisor (2) | DC210058 DC210056 | 01/26/2021 01/20/2021
| Office of White House Liaison | Senior Advisor (COVID) Senior Advisor (Delivery) | DC210041 DC210060 | 01/20/2021 01/20/2021
|  | Deputy White House Liaison | DC210071 | 01/29/2021
COUNCIL ON ENVIRONMENTAL QUALITY | Council on Environmental Quality | Scheduler Special Assistant | EQ210001 EQ210002 | 01/22/2021 01/26/2021
DEPARTMENT OF DEFENSE | Office of the Assistant Secretary of Defense (Legislative Affairs) | Special Assistant (2) | DD210132 DD210148 | 01/23/2021 01/28/2021
| Office of the Assistant to the Secretary of Defense (Public Affairs) | Chief of Staff | DD210133 | 01/23/2021
|  | Speechwriter | DD210159 | 01/28/2021
| Office of the Secretary of Defense | Advance Officer | DD210158 | 01/28/2021
|  | Confidential Assistant | DD210152 | 01/28/2021
|  | Protocol Officer | DD210147 | 01/28/2021
|  | Special Assistant (2) | DD210112 DD210155 | 01/23/2021 01/28/2021
| Office of the Under Secretary of Defense (Policy) | Special Assistant (4) | DD210129 DD210116 | 01/23/2021 01/24/2021
|  |  | DD210163 DD210164 | 01/28/2021 01/28/2021
DEPARTMENT OF THE NAVY | Office of the General Counsel | Attorney-Advisor (General) | DN210011 | 01/20/2021
| Office of the Under Secretary of the Navy | Residential Manager and Social Secretary for the Vice President | DN210012 | 01/28/2021
DEPARTMENT OF EDUCATION | Office of Civil Rights (2) | Senior Counsel Chief of Staff | DB210025 DB210042 | 01/20/2021 01/22/2021
| Office of Communications and Outreach | Special Assistant | DB210046 | 01/29/2021
| Office of Legislation and Congressional Affairs | Special Assistant | DB210026 | 01/20/2021
| Office of Planning, Evaluation and Policy Development | Special Assistant (2) | DB210047 DB210049 | 01/29/2021 01/29/2021
| Office of Postsecondary Education | Chief of Staff | DB210027 | 01/20/2021
|  | Special Assistant | DB210030 | 01/20/2021
| Office of the General Counsel | Senior Counsel (3) | DB210034 DB210044 DB210045 | 01/20/2021 01/29/2021 01/30/2021
| Office of the Secretary | Director, White House Liaison | DB210022 | 01/20/2021
|  | Senior Advisor | DB210033 | 01/20/2021
| Office of the Under Secretary | Chief of Staff | DB210041 | 01/22/2021
DEPARTMENT OF ENERGY | Office of Management | Deputy Director of Operations for Advance | DE200172 | 01/14/2021
|  | Director of External Operations | DE200173 | 01/14/2021
ENVIRONMENTAL PROTECTION AGENCY | Office of Public Engagement and Environmental Education | Senior Advisor | EP210009 | 01/05/2021
| Office of the Administrator | Senior Assistant | EP210010 | 01/05/2021
| Office of the Assistant Administrator for Research and Development | Policy Assistant | EP200077 | 01/08/2021
| Office of the Associate Administrator for Congressional and Intergovernmental Relations | Special Advisor for Senate Affairs Deputy Associate Administrator for Congressional Affairs | EP200082 EP210016 | 01/05/2021 01/30/2021
EXPORT-IMPORT BANK | Office of Congressional and Intergovernmental Affairs | Senior Vice President | EB210004 | 01/20/2021
| Office of the Chairman | Director of Scheduling | EB210006 | 01/20/2021
|  | Executive Secretary | EB210007 | 01/20/2021
GENERAL SERVICES ADMINISTRATION | Office of Strategic Communication Office of the Administrator | Director of Public Engagement Senior Advisor (3) | GS210023 GS210022 GS210024 GS210026 | 01/20/2021 01/20/2021 01/20/2021 01/25/2021
DEPARTMENT OF HOMELAND SECURITY | Office of Public Affairs | Director of Strategic Communications | DM210073 | 01/14/2021
DEPARTMENT OF HOUSING AND URBAN DEVELOPMENT | Office of Congressional and Intergovernmental Relations | Deputy Assistant Secretary for Congressional Relations | DU210030 | 01/27/2021
|  | Congressional Relations Specialist | DU210031 | 01/27/2021
| Office of Field Policy and Management | Special Policy Advisor | DU210037 | 01/22/2021
| Office of Housing | Special Assistant | DU210035 | 01/27/2021
| Office of Policy Development and Research | Special Advisor | DU210029 | 01/27/2021
| Office of Public Affairs | Deputy Assistant Secretary for Public Engagement | DU210041 | 01/22/2021
|  | Press Secretary | DU210022 | 01/27/2021
|  | Deputy Assistant Secretary for Public Affairs | DU210028 | 01/27/2021
| Office of Public and Indian Housing | Special Assistant | DU210040 | 01/22/2021
| Office of the Administration | Director of Advance | DU210032 | 01/27/2021
| Office of the Deputy Secretary | Deputy White House Liaison | DU210047 | 01/27/2021
| Office of the General Counsel | Senior Counsel | DU210024 | 01/27/2021
| Office of the Secretary | White House Liaison | DU210020 | 01/27/2021
|  | Executive Assistant | DU210025 | 01/27/2021
DEPARTMENT OF JUSTICE | Office of Environment and Natural Resources Division | Senior Counsel | DJ210024 | 01/08/2021
DEPARTMENT OF LABOR | Office of Employment and Training Administration | Chief of Staff | DL210049 | 01/20/2021
|  | Senior Policy Advisor for Unemployment Insurance | DL210060 | 01/29/2021
| Occupational Safety and Health Administration | Chief of Staff | DL210044 | 01/20/2021
| Office of Congressional and Intergovernmental Affairs | Chief of Staff Deputy Director of Intergovernmental Affairs | DL210033 DL210017 | 01/20/2021 01/20/2021
|  | Legislative Assistant | DL210007 | 01/14/2021
|  | Senior Counsel | DL210036 | 01/20/2021
|  | Senior Legislative Officer | DL210043 | 01/20/2021
| Office of Federal Contract Compliance Programs | Chief of Staff | DL210029 | 01/20/2021
| Office of Public Affairs | Digital Engagement Director | DL210061 | 01/27/2021
|  | Director of Digital Strategy | DL210057 | 01/28/2021
|  | Press Secretary | DL210042 | 01/20/2021
| Office of the Assistant Secretary for Administration and Management | Special Advisor | DL210018 | 01/20/2021
| Office of the Assistant Secretary for Policy | Chief of Staff | DL210027 | 01/20/2021
| Office of the Deputy Secretary | Counselor | DL210059 | 01/27/2021
| Office of the Secretary | Advisor for Worker Voice Engagement | DL210063 | 01/29/2021
|  | Counselor (2) | DL210039 DL210051 | 01/20/2021 01/21/2021
|  | Deputy White House Liaison | DL210041 | 01/20/2021
|  | Executive Assistant | DL210062 | 01/27/2021
|  | Policy Advisor | DL210048 | 01/21/2021
|  | White House Liaison | DL210016 | 01/20/2021
| Office of the Solicitor | Senior Counsel | DL210032 | 01/20/2021
|  | Senior Advisor | DL210038 | 01/20/2021
| Office of Workers Compensation Programs | Chief of Staff | DL210034 | 01/20/2021
| Office of Veterans Employment and Training Service | Chief of Staff | DL210058 | 01/29/2021
| Office of Wage and Hour Division | Chief of Staff | DL210064 | 01/28/2021
NATIONAL AERONAUTICS AND SPACE ADMINISTRATION | Office of Legislative and Intergovernmental Affairs | Special Assistant | NN210020 | 01/22/2021
NATIONAL CREDIT UNION ADMINISTRATION | Office of the Board | Special Assistant and Advisor | CU210002 | 01/05/2021
NATIONAL ENDOWMENT FOR THE ARTS | National Endowment for the Arts | Deputy Director of Public Affairs Director of Strategic Communications and Public Affairs | NA210003 NA210007 | 01/08/2021 01/20/2021
|  | White House Liaison and Senior Advisor | NA210009 | 01/20/2021
|  | Director of Congressional Affairs | NA210010 | 01/21/2021
OCCUPATIONAL SAFETY AND HEALTH REVIEW COMMISSION | Occupational Safety and Health Review Commission | Confidential Assistant | SH210002 | 01/13/2021
OFFICE OF MANAGEMENT AND BUDGET | Office of Communications Office of Education, Income Maintenance and Labor Programs | Confidential Assistant Confidential Assistant | BO210052 BO210020 | 01/29/2021 01/29/2021
| Office of General Counsel | Confidential Assistant | BO210051 | 01/29/2021
|  | Associate Deputy General Counsel | BO210058 | 01/29/2021
| Office of General Government Programs | Confidential Assistant (2) | BO210018 BO210025 | 01/29/2021 01/29/2021
| Office of Legislative Affairs | Deputy (2) | BO210023 BO210031 | 01/29/2021 01/29/2021
| Office of Natural Resource Programs | Confidential Assistant | BO210019 | 01/29/2021
| Office of Information and Regulatory Affairs | Confidential Assistant | BO210030 | 01/29/2021
| Office of the Director | Assistant | BO210014 | 01/21/2021
|  | Advisor | BO210046 | 01/29/2021
| Staff Offices | Associate Director for Communications | BO210053 | 01/29/2021
|  | Confidential Assistant | BO210057 | 01/29/2021
OFFICE OF NATIONAL DRUG CONTROL POLICY | Office of Legislative Affairs | Associate Director Office of Legislative Affairs | QQ210004 | 01/21/2021
OFFICE OF SCIENCE AND TECHNOLOGY POLICY | Office of Science and Technology Policy | Legislative Affairs Director | TS210002 | 01/22/2021
|  | Special Assistant | TS210003 | 01/22/2021
OFFICE OF THE UNITED STATES TRADE REPRESENTATIVE | Office of Congressional Affairs | Assistant United States Trade Representative for Congressional Affairs Director for Congressional Affairs | TN210008 TN210010 | 01/27/2021 01/27/2021
| Office of Intergovernmental Affairs and Public Liaison | Assistant United States Trade Representative for Public Engagement Assistant United States Trade Representative for Intergovernmental Affairs | TN210009 TN210012 | 01/27/2021 01/29/2021
| Office of Public and Media Affairs | Digital Media Director Assistant United States Trade Representative for Public and Media Affairs | TN210004 TN210013 | 01/26/2021 01/29/2021
UNITED STATES INTERNATIONAL DEVELOPMENT FINANCE CORPORATION | Overseas Private Investment Corporation | Deputy Chief of Staff Special Assistant | PQ210002 PQ210006 | 01/20/2021 01/25/2021
SMALL BUSINESS ADMINISTRATION | Office of Congressional and Legislative Affairs | Legislative Policy Advisor | SB210006 | 01/28/2021
| Office of the Administrator | White House Liaison | SB210005 | 01/28/2021
|  | Senior Advisor | SB210011 | 01/28/2021
DEPARTMENT OF TRANSPORTATION | Office of the Assistant Secretary for Governmental Affairs | Deputy Assistant Secretary for Congressional Affairs (House) | DT210034 | 01/20/2021
|  | Deputy Assistant Secretary for Intergovernmental Affairs | DT210035 | 01/20/2021
|  | Principal Deputy Assistant Secretary for Congressional Affairs (Senate) | DT210009 | 01/20/2021
|  | Special Assistant for Governmental Affairs | DT210042 | 01/20/2021
| Office of the Assistant Secretary for Transportation Policy | Special Assistant for Policy | DT210043 | 01/20/2021
| Office of the Assistant Secretary for Transportation Policy | Special Assistant for Policy | DT210045 | 01/20/2021
| Office of the Executive Secretariat | Director, Executive Secretariat | DT210033 | 01/20/2021
| Federal Highway Administration | Special Assistant | DT210041 | 01/20/2021
| Office of General Counsel | Special Assistant | DT210037 | 01/20/2021
| Pipeline and Hazardous Materials Safety Administration | Special Assistant | DT210040 | 01/20/2021
| Immediate Office of the Administrator | Senior Advisor | DT210032 | 01/20/2021
| Office of Public Affairs | Deputy Director of Public Affairs | DT210057 | 01/29/2021
|  | Digital Communications Manager | DT210059 | 01/29/2021
| Office of the Secretary | Deputy Chief of Staff for Operations | DT210036 | 01/20/2021
|  | Deputy White House Liaison | DT210060 | 01/29/2021
|  | Director of Scheduling and Advance | DT210044 | 01/20/2021
|  | Special Assistant (2) | DT210061 DT210056 | 01/29/2021 01/29/2021
|  | White House Liaison | DT210031 | 01/20/2021
DEPARTMENT OF THE TREASURY | Secretary of the Treasury | Director of Scheduling and Advance | DY210027 | 01/13/2021
DEPARTMENT OF VETERANS AFFAIRS | Office of the Assistant Secretary for Public and Intergovernmental Affairs | Special Assistant Press Secretary | DV210023 DV210024 | 01/20/2021 01/20/2021
| Office of the Secretary and Deputy | Director of Mission Operations | DV210022 | 01/20/2021
|  | White House Liaison | DV210028 | 01/20/2021

The were no Schedule C appointing authorities revoked during January 2021.

Authority: 5 U.S.C. 3301 and 3302; E.O. 10577, 3 CFR, 1954-1958 Comp., p. 218.

Office of Personnel Management.
Alexys Stanley,
Regulatory Affairs Analyst.

[FR Doc. 2021-08156 Filed 4-20-21; 8:45 am]

BILLING CODE 6325-39-P